NATIONAL SCIENCE FOUNDATION

Notice of the Availability of an Environmental Assessment

AGENCY: National Science Foundation.

ACTION: Notice of availability of a draft Environmental Assessment for proposed activities in the Arctic Ocean.

SUMMARY: The National Science Foundation gives notice of the availability of a draft Environmental Assessment for proposed activities in the Arctic Ocean.

The Office of Polar Programs (OPP) has prepared an Environmental Assessment of a marine geophysical survey by the Coast Guard cutter Healy in the western Canada Basin, Chukchi Borderland and Mendeleev Ridge, Arctic Ocean, during July—August, 2006. Given the United States Arctic Program's mission to support polar research, the proposed action is expected to result in substantial benefits to science. The draft Environmental Assessment is available for public review for a 30-day period.

DATES: Comments must be submitted on or before April 7, 2006.

ADDRESSES: Copies of the draft Environmental Assessment are available upon request from: Dr. Polly A. Penhale, National Science Foundation, Office of Polar Programs, 4201 Wilson Blvd., Suite 755, Arlington, VA 22230 at 703-292-8031 or ppenhale@nsf.gov or at the agency's Web site at http://www.nsf.gov/od/opp/arctic/arc_envir/healy_ea_06.pdf.

SUPPLEMENTARY INFORMATION: The University of Texas, Austin, with research funding from the National Science Foundation plans to conduct a marine seismic survey in the western Canada Basin, Chukchi Borderland and Mendeleev Ridge, Arctic Ocean, during the period of 15 July to 25 August 2006 (approximately). This project will include collection of seismic reflection and refraction data as well as sediment coring intended to collect crustal structure samples. The purpose of the seismic survey is to study the origin and kinematics of the Amerasian Basin's opening. The data collected will be used to analyze the internal structure of the ridges and plateaus of the Amerasian basin allowing current theories of its formation to be tested. The proposed study will consists of a geophysical survey in the Arctic Ocean with seven interspersed periods of coring.

Several species of cetaceans and pinnipeds inhabit the Arctic Ocean. The increased underwater noise from the research may result in avoidance behavior by some marine mammals and fish, and other forms of disturbance. An integral part of the planned survey is a monitoring and mitigation program to minimize impacts of the proposed activities on marine species present, and on fishing and subsistence activities, and to document the nature and extent of any effects. Injurious impacts to marine mammals have not been proven to occur near equipment proposed to be used in this research; however, the planned monitoring and mitigation measures would minimize the possibility of such effects should they otherwise occur.

With the planned monitoring and mitigation measures, unavoidable impacts to each of the species of marine mammal that might be encountered are expected to be limited to short-term localized changes in behavior and distribution near the seismic vessel. At most, such effects may be interpreted as falling within the Marine Mammal Protection Act (MMPA) definition of “Level B Harassment” for those species managed by the National Marine Fisheries Service. No long-term or significant effects are expected on individual marine mammals, or the populations to which they belong, or their habitats. The agency is currently consulting with both the National Marine Fisheries Service and the Fish & Wildlife Service regarding species within their respective jurisdictions potentially affected by this proposed activity.

Copies of the draft Environmental Assessment entitled “Environmental Assessment of a Marine Geophysical Survey by the USCG Healy of the Western Canada Basin, Chukchi Borderland and Mendeleev Ridge, Arctic Ocean, July-August 2006” are available upon request from: Dr. Polly A. Penhale, National Science Foundation, Office of Polar Programs, 4201 Wilson Blvd., Suite 755, Arlington, VA 22230 at 703-292-8031 or ppenhale@nsf.gov. or at the agency's website at http://www.nsf.gov/od/opp/arctic/arc_envir/healy_ea_06.pdf.

The National Science Foundation invites interested members of the public to provide written comments on this draft Environmental Assessment.

Polly A. Penhale,
Environmental Officer, Office of Polar Programs, National Science Foundation.

[FR Doc. 06-2192 Filed 3-7-06; 8:45 am]

BILLING CODE 7555-01-M